DEPARTMENT OF DEFENSE

Department of the Army, Corps of Engineers

Notice of Intent To Prepare a Draft Environmental Impact Statement for the Proposed Hawthorne Mill Project, Fairfield, Solano County, CA

AGENCY: Department of the Army, U.S. Army Corps of Engineers, DoD.

ACTION: Notice of intent.

SUMMARY: The U.S. Army Corps of Engineers (USACE), San Francisco District, has received applications for Department of the Army authorizations from Edenbridge, Incorporated (EI) to construct two projects in the City of Fairfield, Solano County, CA. One project, Hawthorne Mill East, is a mixed-residential development project and the second, Hawthorne Mill West, is a residential development project. Development of Hawthorne Mill East will require permanent placement of fill in 37.8 acres of waters of the U.S. Hawthorne Mill West would result in permanent impacts to 0.5 acres of waters of the U.S. In accordance with the National Environmental Policy Act (NEPA) of 1969 (42 U.S.C. 4321 et seq.), the USACE has determined that the proposed actions may have a significant impact on the quality of the human environment and therefore requires the preparation of an Environmental Impact Statement (EIS). Although the two projects are separate projects with independent utility, the USACE and the City have elected to consider these two related projects in a single document to allow for concurrent processing of requested entitlements. A combined Environmental Impact Report (EIR)/EIS will be prepared with the USACE as the Federal lead agency and the City of Fairfield (City) as the local lead agency (under the California Environmental Quality Act, or CEQA).

The Hawthorne Mill East project is intended to become an integral part of the City's proposed train station by contributing to the creation of a populated, mixed-use transit hub and complementing the urban development principles as contemplated by the City. The proposed action is intended to: (1) Maximize long-term land use opportunities presented by the rail station by including a mix of land uses within walking distance of the station; (2) maximize pedestrian and bicycle access between residential and commercial development and the train station; (3) meet the City's regional housing needs requirements in a manner that minimizes pressure on regional highway facilities; (4) contribute to the clear identity of the train station as a comfortable, attractive, and vibrant public realm; and (5) provide appropriate protection of sensitive natural resources. The purpose of the Hawthorne Mill West project is to provide residential housing to fulfill the unmet needs of the City of Fairfield and to contribute to regional growth management by locating residential development on an infill site that is contiguous with existing development.

FOR FURTHER INFORMATION CONTACT: Mr. Bryan Matsumoto, 415-503-6786, or electronic mail: bryan.t.matsumoto@usace.army.mil; or Mr. David Feinstein, 707-428-7448, or electronic mail: dfeinstein@ci.fairfield.ca.us.

SUPPLEMENTARY INFORMATION: 1. Description of Proposed actions: The Hawthorne Mill project sites are located within the City of Fairfield, CA, north of Airbase Parkway, south of Cement Hill Road, and west of Peabody Road. The project sites are comprised of eleven Fairfield Assessor's parcels, which encompass 453.8 acres located at the southwest corner of Cement Hill Road and Peabody Road, on the north side of the adjacent Union Pacific Railroad right-of-way. The following specific project components are being proposed:

a. Hawthorne Mill East: This portion of the project site will have two components: A transit oriented mixed-use development and a conservation area. The development area includes approximately 110 acres. The majority of the development would occur on the north side of McCoy Creek. As proposed, 59.3 acres will be devoted to development of approximately 501 residential units, while 6.5 acres will be devoted to high density residential units. Commercial uses, including two restaurants, are planned on 1.6 acres at the Peabody-Cement Hill Road intersection. Mixed use retail is planned for 2.4 acres along Cement Hill Road. Other land uses include: Parks and open space encompassing 5.3 acres; rights of way encompassing 26.9 acres; storm water and water quality features on 5.2 acres; and a community recreation center with clubhouse and pool on 1.7 acres. Access to the project site will be from three locations along Cement Hill Road. A single, clear span bridge over McCoy Creek will be provided between the high density and retail uses in the northwestern corner of the project site. The internal road system will be designed to promote pedestrian and bicycle traffic and direct connections provided to the planned train station. The conservation area includes approximately 273 acres which support 63.04 acres of wetlands, 2.155 acres of McCoy Creek, as well as 4.657 acres of aquatic areas associated with the McCoy Basin. The conservation area also supports a large population of the federally listed Contra Costa goldfields (Lasthenia conjugens). The conservation area would be preserved in perpetuity and would be managed for the benefit of the natural resources located on the site.

b. Hawthorne Mill West: This portion of the project site encompasses approximately 30 acres and will include 172 residential units occupying 18.3 acres. The development will also include 9.3 acres of rights of way, 0.5 acres of park/open space, and 1.4 acres for storm water and water quality features. Site access will be provided by an extended Portland Drive and will connect directly to adjacent residential developments to the west.

2. Reasonable Alternatives: In accordance with the requirements of Section 15124 of the State CEQA Guidelines and 40 CFR 1502.14, reasonable alternatives to the proposed action will be evaluated in the Draft EIR/EIS. The following alternatives have been preliminarily identified for consideration in the Draft EIR/EIS: (1) No Federal Action Alternative; (2) Proposed Projects; (3) Reduced Aquatic Impacts Alternative; (4) Previously Proposed Project; and (5) No Build Alternative. The Draft EIR/EIS will also consider any other reasonable alternative(s) identified during the scoping or the preparation of the document.

3. Scoping Process: Pursuant to CEQA and NEPA, the City and USACE must include a “scoping” process for the Draft EIR/EIS. Scoping primarily involves determining the scope of issues to be addressed in the Draft EIR/EIS and identifying the anticipated significant issues for in-depth analysis. The scoping process includes public participation to integrate public needs and concerns regarding the proposed action into the process.

a. Public Involvement Program: Vehicles for public comment on the proposed action will include: a public hearing to be conducted jointly by the City and USACE, the preparation of the Draft EIR/EIS, and receipt of public comment in response to the Draft EIR/EIS. In addition, affected Federal, state and local agencies, affected Native American tribes, and other interested private organizations and parties are encouraged to participate in the program.

b. Significant Issues to be Analyzed in Depth in the Draft EIR/EIS: The following significant environmental issues have already been identified and will be analyzed in depth in the Draft EIR/EIS: (1) Aesthetics; (2) Agriculture; (3) Air Quality; (4) Biological Resources; (5) Cultural Resources; (6) Geology/Soils; (7) Hazards/Hazardous Materials; (8) Hydrology/Water Quality; (9) Land Use/Planning; (10) Noise; (11) Population and Housing; (12) Public Services; (13) Recreation; (14) Traffic and Circulation; and (15) Utilities/Service Systems.

c. Environmental Review/Consultation Requirements:

• National Environmental Policy Act.

• Section 404 of the Clean Water Act.

• Endangered Species Act.

• Clean Air Act.

• National Historic Preservation Act.

• California Environmental Quality Act.

• Section 401 of the Clean Water Act.

4. Scoping Meeting: The City and the USACE will hold a scoping meeting at the Fairfield City Council Chambers, 1000 Webster Street, Fairfield, CA 94533-4883, to provide information on the project and receive oral comments on the scope of the document on March 16, 2009, at 7 p.m. Mail comments within 30 days of publication to: Mr. Bryan Matsumoto, U.S. Army Corps of Engineers, 1455 Market Street, CESPN-R-N, San Francisco, CA 94103-1398, or; Mr. David Feinstein, Senior Planner, Department of Community Development, City of Fairfield, 1000 Webster Street, Fairfield, California 94533-4883.

5. Availability of Draft EIR/EIS: The Draft EIR/EIS is expected to be available for public review August 2009.

(Authority: 40 CFR part 1501.7)

Dated: February 13, 2009.
Laurence M. Farrell,
Lieutenant Colonel, U.S. Army, Commanding.

[FR Doc. E9-4201 Filed 2-26-09; 8:45 am]

BILLING CODE 3720-58-P